DEPARTMENT OF THE INTERIOR

National Park Service

[N6301; NPS-WASO-NAGPRA-NPS0040612; PPWOCRADN0-PCU00RP14.R50000]

Notice of Proposed Transfer or Reinterment: U.S. Army Corps of Engineers, Tulsa District, Tulsa, OK

AGENCY: National Park Service, Interior.

ACTION: Notice.

SUMMARY: In accordance with the Native American Graves Protection and Repatriation Act (NAGPRA), the U.S. Army Corps of Engineers, Tulsa District (USACE Tulsa) proposes to transfer human remains or cultural items removed from Federal or Tribal lands.

DATES: Disposition, transfer, or reinterment of the human remains or cultural items in this notice may occur on or after August 27, 2025.

ADDRESSES: Send written claims for disposition of the human remains or cultural items in this notice to Jacqueline Rodgers, U.S. Army Corps of Engineers, Tulsa District, 2488 East 81st Street, Tulsa, OK 74137, email jacqueline.rodgers@usace.army.mil.

SUPPLEMENTARY INFORMATION: This notice is published as part of the National Park Service's administrative responsibilities under NAGPRA. The identifications in this notice are the sole responsibility of the USACE Tulsa, and additional information on the human remains or cultural items described in this notice, including the results of consultation, can be found in the related records. The National Park Service is not responsible for the identifications in this notice.

Abstract of Information Available

Human remains representing, at least, one individual have been identified. No associated funerary objects are present. There is no additional information on the recovery of this individual. The individual was first documented in 1998 during a NAGPRA accounting effort for the Tulsa District. Originally this individual was mistakenly assumed to have been recovered from site 34MA1 at Lake Texoma, however archival research disproved that assumption. It is likely this individual was found by USACE Tulsa staff at Lake Texoma and was confused with a contemporary recovery from site 34MA1. Lake Texoma occupies portions of Marshall, Johnston, Bryan, and Love Counties in Oklahoma and Cooke and Grayson Counties in Texas. The portion of the reservoir within the state of Oklahoma also lies within the exterior boundaries of Chickasaw Nation reservation. The Chickasaw Nation reservation does not extend into the state of Texas. It is unknown from which part of the reservoir this individual was recovered.

Consultation

Invitations to consult were sent to the Caddo Nation of Oklahoma; Comanche Nation, Oklahoma; Quapaw Nation; The Chickasaw Nation, The Choctaw Nation of Oklahoma; The Muscogee (Creek) Nation; The Osage Nation; and the Wichita and Affiliated Tribes (Wichita, Keechi, Waco, & Tawakonie), Oklahoma. Respondents who participated in consultation include the Caddo Nation of Oklahoma; The Chickasaw Nation; The Choctaw Nation of Oklahoma; The Muscogee (Creek) Nation; The Osage Nation; and the Wichita and Affiliated Tribes (Wichita, Keechi, Waco, & Tawakonie), Oklahoma.

Priority for Disposition

One year after the discovery or excavation of the human remains or cultural items described in this notice, USACE Tulsa did not identify any lineal descendant, Indian Tribe, or Native Hawaiian organization with priority for disposition. No known lineal descendant who can trace ancestry to the human remains in this notice has been identified. No Indian Tribe or Native Hawaiian organization from whose Tribal lands the human remains in this notice were removed has been identified. No Indian Tribe or Native Hawaiian organization with cultural affiliation to the human remains in this notice has been clearly or reasonably identified. The Federal land from which the human remains in this notice were removed is not recognized by a final judgement of the Indian Claims Commission or the United States Court of Claims as the aboriginal land of some Indian Tribe.

Determinations

The USACE Tulsa has determined that:

• The human remains described in this notice represent the physical remains of one individual of Native American ancestry.

• The Chickasaw Nation has requested transfer of the human remains described in this notice.

Claims for Disposition

Written claims for disposition of the human remains or cultural items described in this notice must be sent to the appropriate official identified in this notice under ADDRESSES. Claims for disposition may be submitted by any lineal descendant, Indian Tribe, or Native Hawaiian organization who shows that they have priority for disposition.

Disposition, transfer, or reinterment of the human remains or cultural items described in this notice may occur on or after August 27, 2025. If competing claims for disposition are received, the USACE Tulsa must determine the most appropriate claimant prior to disposition. Claims for joint disposition of the human remains or cultural items are considered a single claim and not completing claims. The USACE Tulsa is responsible for sending a copy of this notice to the lineal descendants, Indian Tribes, and Native Hawaiian organizations identified in this notice.

Authority: Native American Graves Protection and Repatriation Act, 25 U.S.C. 3002, and the implementing regulations, 43 CFR 10.7.

Dated: July 9, 2025.
Melanie O'Brien,
Manager, National NAGPRA Program.

[FR Doc. 2025-14166 Filed 7-25-25; 8:45 am]

BILLING CODE 4312-52-P